NATIONAL AERONAUTICS AND SPACE ADMINISTRATION

Notice of Centennial Challenges 2015 Mars Ascent Vehicle (MAV) Challenge

AGENCY: National Aeronautics and Space Administration (NASA).

Notice: (14-091). Notice of Centennial Challenges 2015 Mars Ascent Vehicle (MAV) Challenge.

SUMMARY: This notice is issued in accordance with 51 U.S.C. 20144(c). The Mars Ascent Vehicle (MAV) Challenge is scheduled and teams that wish to compete may now register. Centennial Challenges is a program of prize competitions to stimulate innovation in technologies of interest and value to NASA and the nation. The 2015 MAV Challenge is a prize competition designed to encourage development of new technologies or application of existing technologies in unique ways to autonomously collect and launch a sample cache using robotics and solid propulsion rocketry. NASA is providing the prize purse.

DATES: 2015 MAV Challenge will be held April 9-April 12, 2015.

ADDRESSES: 2015 MAV Challenge will be conducted at Bragg Farms located near Huntsville, Alabama.

FOR FURTHER INFORMATION CONTACT: To register for or get additional information regarding the 2015 MAV Challenge, please visit: http://www.nasa.gov/mavprize.

For general information on the NASA Centennial Challenges Program please visit: http://www.nasa.gov/challenges. General questions and comments regarding the program should be addressed to Sam Ortega, Centennial Challenges Program, NASA Marshall Space Flight Center, Huntsville, AL 35812. Email address: hq-stmd-centennialchallenges@mail.nasa.gov.

SUPPLEMENTARY INFORMATION:

Summary

Competitors will design, build, and operate an autonomous device that will robotically collect a sample cache, store it in a rocket, raise the rocket to a vertical launch position and insert the igniter into the solid rocket motor. The launching of the rocket will be activated manually and will fly to an altitude of 3,000 feet. The sample cache payload will be jettisoned at 1,000 feet and is required to return to Earth, like the rocket, using a passive recovery system so that it remains in a reusable condition.

I. Prize Amounts

The total MAV prize purse is $50,000 (fifty thousand U.S. dollars). Prizes will be offered for entries that meet specific requirements detailed in the Rules.

II. Eligibility

To be eligible to win a prize, competitors must;

(1) Register and comply with all requirements in the rules

(2) In the case of a private entity, shall be incorporated in and maintain a primary place of business in the United States, and in the case of an individual, whether participating singly or in a group, shall be a citizen or permanent resident of the United States

(3) Not be a Federal entity or Federal employee acting within the scope of their employment.

III. Rules

The complete rules for the 2015 MAV Challenge can be found at: http://www.nasa.gov/mavprize.

Nanette Jennings,
NASA Federal Register Liaison Officer.

[FR Doc. 2014-22347 Filed 9-18-14; 8:45 am]

BILLING CODE 7510-13-P